DEPARTMENT OF HOMELAND SECURITY

Federal Emergency Management Agency

44 CFR Part 65

[Docket ID FEMA-2010-0003; Internal Agency Docket No. FEMA-B-1135]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | City of Phoenix (09-09-1059P) | May 7, 2010, May 14, 2010, Arizona Republic | The Honorable Phil Gordon, Mayor, City of Phoenix, 200 West Washington Street, 11th Floor, Phoenix, AZ 85003 | April 30, 2010 | 040051
Arizona: Maricopa | City of Phoenix (10-09-0146P) | May 6, 2010, May 13, 2010, Arizona Republic | The Honorable Phil Gordon, Mayor, City of Phoenix, 200 West Washington Street, 11th Floor, Phoenix, AZ 85003 | April 28, 2010 | 040051
Arizona: Yavapai | City of Prescott (09-09-0658P) | May 10, 2010, May 17, 2010, Prescott Daily Courier | The Honorable Marlin Kuykendall, Mayor, City of Prescott, 201 South Cortez Street, Prescott, AZ 86303 | April 30, 2010 | 040098
Arizona: Yavapai | Unincorporated areas of Yavapai County (09-09-0658P) | May 10, 2010, May 17, 2010, Prescott Daily Courier | The Honorable Chip Davis, Chairman, Yavapai County Board of Supervisors, 1015 Fair Street, Prescott, AZ 86305 | April 30, 2010 | 040093
California: San Diego | City of Poway (10-09-1118P) | May 13, 2010, May 20, 2010, Poway News Chieftain | The Honorable Don Higginson, Mayor, City of Poway, 13325 Civic Center Drive, Poway, CA 92064 | September 17, 2010 | 060702
California: Ventura | City of Simi Valley (09-09-2409P) | May 28, 2010, June 4, 2010, Ventura County Star | The Honorable Paul Miller, Mayor, City of Simi Valley, 2929 Tapo Canyon Road, Simi Valley, CA 93063 | October 4, 2010 | 060421
Florida: Leon | City of Tallahassee (09-04-3114P) | May 11, 2010, May 18, 2010, Tallahassee Democrat | The Honorable John Marks, Mayor, City of Tallahassee, 300 South Adams Street, B-28, Tallahassee, FL 32301 | September 15, 2010 | 120144
Florida: Orange | City of Ocee (10-04-4198P) | May 28, 2010, June 4, 2010, Orlando Sentinel | The Honorable S. Scott Vandergrift, Mayor, City of Ocoee, 150 North Lakeshore Drive, Ocoee, FL 34761 | May 21, 2010 | 120185
Florida: Pinellas | City of Clearwater (10-04-4136P) | May 7, 2010, May 14, 2010, St. Petersburg Times | The Honorable Frank V. Hibbard, Mayor, City of Clearwater, P.O. Box 4748, Clearwater, FL 33758 | April 28, 2010 | 125096
Georgia: Whitfield | City of Dalton (09-04-1965P) | March 26, 2010, April 2, 2010, The Daily Citizen | The Honorable David Pennington, Mayor, City of Dalton, P.O. Box 1205, Dalton, GA 30720 | April 14, 2010 | 130194
Georgia: Whitfield | Unincorporated areas of Whitfield County (09-04-1965P) | March 26, 2010, April 2, 2010, The Daily Citizen | The Honorable Mike Babb, Chairman, Whitfield County, 1407 Burleyson Drive, Dalton, GA 30720 | April 14, 2010 | 130193
Hawaii: Hawaii | Unincorporated areas of Hawaii County (09-09-1789P) | April 30, 2010, May 7, 2010, Hawaii Tribune-Herald | The Honorable William P. Kenoi, Mayor, County of Hawaii, 25 Aupuni Street, Hilo, HI 96720 | September 7, 2010 | 155166
Idaho: Ada | Unincorporated areas of Ada County (07-10-0642P) | May 13, 2010, May 20, 2010, The Idaho Statesman | The Honorable Fred Tilman, Chairman, Ada County Board of Commissioners, 200 West Front Street, 3rd Floor, Boise, ID 83702 | September 17, 2010 | 160001
Idaho: Teton | Unincorporated areas of Teton County (09-10-0227P) | May 13, 2010, May 20, 2010, Teton Valley News | The Honorable Larry Young, Chairman, Teton County Board of Commissioners, 150 Courthouse Drive, Room 109, Driggs, ID 83422 | September 17, 2010 | 160230
Idaho: Teton | City of Victor (09-10-0365P) | May 13, 2010, May 20, 2010, Teton Valley News | The Honorable Scott Fitzgerald, Mayor, City of Victor, P.O. Box 122, Victor, ID 83455 | September 17, 2010 | 060119
Iowa: Hamilton | City of Webster City (09-07-1058P) | April 30, 2010, May 7, 2010, The Daily Freeman-Journal | The Honorable Janet Adams, Mayor, City of Webster City, P.O. Box 217, Webster City, IA 50595 | September 7, 2010 | 190137
Kansas: Sedgwick | City of Derby (09-07-1398P) | May 12, 2010, May 19, 2010, The Derby Informer | The Honorable Dion Avello, Mayor, City of Derby, 611 Mulberry Road, Derby, KS 67037 | September 16, 2010 | 200323
Mississippi: Lee | City of Tupelo (09-04-4664P) | May 21, 2010, May 28, 2010, Northeast Mississippi Daily Journal | The Honorable Jack Reed, Jr., Mayor, City of Tupelo, P.O. Box 1485, Tupelo, MS 38802 | September 27, 2010 | 280100
Mississippi: Lee | Unincorporated areas of Lee County (09-04-4664P) | May 21, 2010, May 28, 2010, Northeast Mississippi Daily Journal | The Honorable Sean Thompson, President, Lee County, P.O. Box 1785, Tupelo, MS 38801 | September 27, 2010 | 280227
Missouri: Jackson | City of Lee's Summit (09-07-1328P) | May 7, 2010, May 14, 2010, Lee's Summit Journal | The Honorable Karen R. Messerli, Mayor, City of Lee's Summit, 220 Southeast Green Street, Lee's Summit, MO 64063 | September 13, 2010 | 290174
Nevada: City of Carson City | City of Carson City (08-09-1740P) | May 12, 2010, May 19, 2010, Nevada Appeal | The Honorable Robert L. Crowell, Mayor, City of Carson City, 201 North Carson Street, Suite 2, Carson City, NV 89701 | April 30, 2010 | 320001
New Mexico: Dona Ana | City of Las Cruces (08-06-2997P) | May 7, 2010, May 14, 2010, Las Cruces Sun-News | The Honorable Ken Miyagishima, Mayor, City of Las Cruces, 200 North Church Street, Las Cruces, NM 88001 | September 13, 2010 | 355332
North Carolina: Orange | Town of Chapel Hill (10-04-0448P) | April 16, 2010, April 23, 2010, Chapel Hill Herald | The Honorable Kevin Foy, Mayor, Town of Chapel Hill, 405 Martin Luther King Jr. Boulevard, Chapel Hill, NC 27514 | August 23, 2010 | 370180
South Carolina: Jasper | City of Hardeeville (09-04-5183P) | May 5, 2010, May 12, 2010, Jasper County Sun | The Honorable A. Brooks Willis, Mayor, City of Hardeeville, 205 East Main Street, Hardeeville, SC 29927 | September 9, 2010 | 450113
South Carolina: Jasper | Unincorporated areas of Jasper County (09-04-5183P) | May 5, 2010, May 12, 2010, Jasper County Sun | The Honorable Dr. George Hood, Chairman, Jasper County Council, P.O. Box 1618, Ridgeland, SC 29936 | September 9, 2010 | 450112
South Carolina: York | City of Rock Hill (09-04-3659P) | May 20, 2010, May 27, 2010, The Herald | The Honorable Doug Echols, Mayor, City of Rock Hill, P.O. Box 11706, Rock Hill, SC 29731 | June 14, 2010 | 450196
South Carolina: York | Unincorporated areas of York County (09-04-3659P) | May 20, 2010, May 27, 2010, The Herald | The Honorable Houston “Buddy” Motz, Chairman, York County Board of Commissioners, 2047 Poinsett Drive, Rock Hill, SC 29732 | June 14, 2010 | 450193
South Dakota: Pennington | Unincorporated areas of Pennington County (09-08-0639P) | May 13, 2010, May 20, 2010, Rapid City Journal | The Honorable Ethan Schmidt, Chairman, Pennington County Board of Commissioners, 315 Saint Joseph Street, Suite 156, Rapid City, SD 57701 | June 2, 2010 | 460064
Texas: Bexar | City of San Antonio (09-06-3107P) | April 23, 2010, April 30, 2010, San Antonio Express-News | The Honorable Julian Castro, Mayor, City of San Antonio, P.O. Box 839966, San Antonio, TX 78283 | April 26, 2010 | 480045
Texas: Denton | Unincorporated areas of Denton County (10-06-1747P) | May 13, 2010, May 20, 2010, Denton Record-Chronicle | The Honorable Mary Horn, Denton County Judge, 110 West Hickory Street, 2nd Floor, Denton, TX 76201 | September 17, 2010 | 480774
Texas: Midland | City of Midland (08-06-2854P) | May 21, 2010, May 28, 2010, Midland Reporter-Telegram | The Honorable Wes Perry, Mayor, City of Midland, 300 North Loraine Street, Midland, TX 79701 | September 27, 2010 | 480477
Texas: Midland | Unincorporated areas of Midland County (08-06-2854P) | May 21, 2010, May 28, 2010, Midland Reporter-Telegram | The Honorable Michael R. Bradford, Midland County Judge, 200 West Wall Street, Suite 104, Midland, TX 79701 | September 27, 2010 | 481239
Wisconsin: Richland | City of Richland Center (09-05-1012P) | March 11, 2010, March 18, 2010, The Richland Observer | The Honorable Larry D. Fowler, Mayor, City of Richland Center, 450 South Main Street, Richland Center, WI 53581 | July 9, 2010 | 555576
Wisconsin: Richland | Unincorporated areas of Richland County (09-05-1012P) | March 11, 2010, March 18, 2010, The Richland Observer | The Honorable Ann Greenheck, Chairman, Richland County Board, 31709 State Highway 130, Lone Rock, WI 53556 | July 9, 2010 | 550356

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31512 Filed 12-15-10; 8:45 am]

BILLING CODE 9110-12-P